DEPARTMENT OF VETERANS AFFAIRS

[OMB Control No. 2900-0674]

Agency Information Collection Activity: Notice of Disagreement: Appeal to the Board of Veterans' Appeals

AGENCY: Board of Veterans' Appeals, Department of Veterans Affairs.

ACTION: Notice.

SUMMARY: The Board of Veterans' Appeals (BVA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. Written comments and recommendations on the proposed collection of information should be received on or before January 14, 2022.

ADDRESSES: Submit written comments on the collection of information through Federal Docket Management System (FDMS) at www.Regulations.gov or to Sue Hamlin, BVA (01C2), Department of Veterans Affairs, 810 Vermont Avenue NW, Washington, DC 20420 or email to Sue.Hamlin@va.gov. Please refer to “OMB Control No. 2900-0674” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0674” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, BVA invites comments on: (1) Whether the proposed collection of information is necessary for the proper performance of BVA's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Authority: Public Law 115-55; 38 U.S.C. 5104B, 5108, 5701, 5901, 7103, 7104, 7105, 7107.

Title: Notice of Disagreement (NOD)/Appeal to the Board of Veterans' Appeals, VA Form 10182 and VA Form 9.

OMB Control Number: 2900-0674.

Type of Review: Revision of a currently approved collection.

Abstract: Appellate review of the denial of VA benefits may only be initiated by the filing of a Notice of Disagreement with the Board. 38 U.S.C. 7105(a). VA Form 10182 Decision Review Request: Board Appeal (Notice of Disagreement) is required to initiate Board review of an appeal in the modernized review system as implemented by the Veterans Appeals Improvement and Modernization Act of 2017 (AMA). The VA Form 9 Appeal to Board of Veterans' Appeals may be used to complete a legacy appeal to the Board. The completed form becomes the “substantive appeal” (or “formal appeal”), which is required by the pre-AMA version of 38 U.S.C. 7105(a) and (d)(3) to complete an appeal to the Board. Additionally, the proposed information collections allow for withdrawal of services by a representative, requests for changes in hearing dates and methods under 38 U.S.C. 7107, and motions for reconsideration pursuant to 38 U.S.C. 7103(a).

The Board is requesting to revise the currently approved OMB Control No. 2900-0674 to include an updated VA Form 10182 Notice of Disagreement. Proposed revisions to the VA Form 10182 Notice of Disagreement include: (1) Removal of the requirement to provide a social security number; (2) inclusion of checkboxes to indicate a preferred method of hearing; (3) inclusion of a checkbox to indicate whether the decision for which appeal is being sought was issued by the Veterans Health Administration (VHA); (4) inclusion of a checkbox to request an extension of the deadline to file a Notice of Disagreement; (5) removal of the checkbox used to indicate whether the Notice of Disagreement has been filed in response to a Statement of the Case or Supplemental Statement of the Case issued under the legacy appeals process; (6) replacement of the checkbox for indicating the claimant “is homeless” to indicate whether the claimant is “experiencing homelessness”; (7) a clarified description of the window of time within which to submit evidence on the Evidence Submission docket; and (8) adding a subpart to Part III for issues the appellant wishes to include in the VA Form 10182 that need to be listed on additional sheets. Proposed revisions also include updated instructions for completing the Notice of Disagreement.

There is a decrease in the respondent burden because the associated control number originally included the nonstandard legacy Notice of Disagreement. Consistent with the wind-down of legacy appeals following implementation of the AMA, the Board is not seeking renewal of the nonstandard legacy Notice of Disagreement under this control number.

Affected Public: Individuals and households.

Estimated Annual Burden: 64,805 hours.

Estimated Average Burden per Respondent: 37 minutes.

Frequency of Response: Once.

Estimated Number of Respondents: 126,000.

By direction of the Secretary.
Maribel Aponte,
VA PRA Clearance Officer, Office of Enterprise and Integration/Data Governance Analytics, Department of Veterans Affairs.

[FR Doc. 2021-24879 Filed 11-12-21; 8:45 am]

BILLING CODE 8320-01-P